DEPARTMENT OF THE INTERIOR

Bureau of Land Management

[WY-100-05-1310-DB]

Notice of Meeting of the Pinedale Anticline Working Group's Wildlife Task Group

AGENCY: Bureau of Land Management, Interior.

ACTION: Notice of public meeting.

SUMMARY: In accordance with the Federal Land Policy and Management Act (1976) and the Federal Advisory Committee Act (1972), the U.S. Department of the Interior, Bureau of Land Management (BLM) Pinedale Anticline Working Group (PAWG) Wildlife Task Group (subcommittee) will meet in Pinedale, Wyoming, for a business meeting. Task Group meetings are open to the public.

DATES: A PAWG Wildlife Task Group meeting is scheduled for May 24, 2005 from 9 a.m. until 4 p.m.

ADDRESSES: The meeting will be held at the BLM Pinedale Field Office at 432 E. Mills St., Pinedale, WY.

FOR FURTHER INFORMATION CONTACT: Steve Belinda, BLM/Wildlife TG Liaison, Bureau of Land Management, Pinedale Field Office, 432 E. Mills St., PO Box 768, Pinedale, WY 82941; (307) 367-5323.

SUPPLEMENTARY INFORMATION: The Pinedale Anticline Working Group (PAWG) was authorized and established with release of the Record of Decision (ROD) for the Pinedale Anticline Oil and Gas Exploration and Development Project on July 27, 2000. The PAWG's charter is to advise the BLM on development and implementation of monitoring plans and adaptive management decisions for the life of the Pinedale Anticline natural gas field. The PAWG subsequently established seven resource- or activity-specific Task Groups, including one for Wildlife.

The agenda for this meeting will include a review and discussion of monitoring proposals accepted by the PAWG, an update on Anticline sage-grouse and mule deer research, and discussion of possible changes to mitigation and habitat management guidelines for sage-grouse and mule deer. At a minimum, public comments will be heard just prior to adjournment of the meeting.

Dated: April 25, 2005.
Priscilla E. Mecham,
Field Manager.

[FR Doc. 05-8743 Filed 4-29-05; 8:45 am]

BILLING CODE 4310-22-P